DEPARTMENT OF COMMERCE

National Oceanic and Atmospheric Administration

Initiation of Review of Management Plan/Regulations of the Fagatele Bay National Marine Sanctuary; Intent To Prepare Draft Environmental Impact Statement and Management Plan; Scoping Meetings

AGENCY: Office of National Marine Sanctuaries (ONMS), National Ocean Service (NOS), National Oceanic and Atmospheric Administration (NOAA), Department of Commerce (DOC).

ACTION: Initiation of Review of Management Plan/Regulations; Intent To Prepare Environmental Impact Statement; Scoping Meetings.

SUMMARY: Fagatele Bay National Marine Sanctuary (FBNMS or Sanctuary) was designated in April of 1986 in response to a proposal from the American Samoa Government to the (then) National Marine Sanctuary Program. FBNMS protects 163 acres (0.25 square miles) of vibrant tropical coral reef ecosystem off the southwest coast of Tutuila Island, American Samoa. The present management plan was written as part of the sanctuary designation process and published in the Final Environmental Impact Statement in 1984. In accordance with Section 304(e) of the National Marine Sanctuaries Act, as amended, (NMSA) (16 U.S.C. 1431 et seq.), the Office of National Marine Sanctuaries (ONMS) of the National Oceanic and Atmospheric Administration (NOAA) is initiating a review of the FBNMS management plan, to evaluate substantive progress toward implementing the goals for the Sanctuary, to initiate discussions on possible site expansion, and to make revisions to the plan and regulations as necessary to fulfill the purposes and policies of the NMSA. NOAA will conduct public scoping meetings to gather information and other comments from individuals, organizations, and government agencies on the scope, types and significance of issues related to the Sanctuary's management plan and regulations, and possible site expansion (including expansion to include the Rose Atoll Marine National Monument designated on January 6, 2009). The scoping meetings are scheduled as detailed below.

DATES: Written comments should be received on or before March 26, 2009.

Scoping meetings will be held on:

(1) February 10th, 4-6:30 p.m., Convention Center, Utulei, Tutuila, American Samoa.

(2) February 11th, 4-6:30 p.m., Fagaitua High School Gym, Fagaitua, Tutuila, American Samoa.

(3) February 12th, 4-6:30 p.m., American Samoa Community College, Mapusaga, Tutuila, American Samoa.

ADDRESSES: Written comments may be sent to the Fagatele Bay National Marine Sanctuary (Management Plan Review), P.O. Box 4318, Pago Pago, American Samoa 96799; or faxed to (808) 397-2662. Electronic comments may be sent to fagatelebay@noaa.gov.

Comments will be available for public review at the following street address: Fagatele Bay National Marine Sanctuary, 1 Convention Center Circle, Pago Pago, American Samoa 96799. All comments received are a part of the public record. All Personal Identifying Information (for example, name, address, etc.) voluntarily submitted by the commenter may be publicly accessible. Do not submit confidential business information or otherwise sensitive or protected information. NOAA will accept anonymous comments. Attachments to electronic comments will be accepted in Microsoft Word, Excel, or Adobe PDF file formats only.

FOR FURTHER INFORMATION CONTACT: Kevin Grant, 808.397.2660 Ext. 238, fagatelebay@noaa.gov.

SUPPLEMENTARY INFORMATION: The proposed revised management plan will likely involve changes to existing policies of the Sanctuary in order to address contemporary issues and challenges, and to better protect and manage the Sanctuary's resources and qualities. The review process is composed of four major stages: (1) Information collection and characterization; (2) preparation and release of a draft management plan/environmental impact statement, and any proposed amendments to the regulations; (3) public review and comment; and (4) preparation and release of a final management plan/environmental impact statement, and any final amendments to the regulations. In the event that the potential impacts of new actions described in the management plan do not warrant the need for an environmental impact statement, NOAA will publish the appropriate environmental analysis and notify the public. Depending upon the complexity and level of any site expansion, NOAA anticipates completion of the revised management plan and concomitant documents will require approximately thirty-six to forty-eight months.

Preliminary Priority Topics

NOAA, in consultation with the American Samoa Department of Commerce, has prepared a list of preliminary priority topics. This list represents our best professional judgment of the most important issues NOAA should consider in preparation of a new FBNMS management plan. We are interested in the public's comments on these topics, as well as any other topics of interest to the public or other agencies. It is important to note that this list does not preclude or in any way limit the consideration of additional topics raised through public comment, government-to-government consultations, and discussions with partner agencies.

Improved Partnerships—Recent initiatives regarding marine managed areas provide the Sanctuary with new opportunities to strengthen partnerships, particularly with Territorial and Federal agencies, the American Samoa Community College, and other entities. The Sanctuary will work in active partnership to provide a more transparent, cooperative, and coordinated management structure of marine resources within Territorial and federal jurisdictions.

Characterization and Monitoring—There is a need to develop an understanding of baseline conditions of marine resources within the sanctuary, ecosystem functions, and status and trends of biological and socioeconomic resources to effectively inform management. FBNMS, in conjunction with Territorial and Federal agencies as well as other entities, will work to resolve these needs.

Spill Prevention, Contingency Planning and Response—The risk from vessel traffic and other hazards is a significant threat to marine resources. The potential for a catastrophic oil spill remains a primary concern and while advances in maritime safety have been made since the sanctuary was designated, better coordination is needed for response to these threats. Oil spills cause immediate and potentially long term harm to marine resources as well as socioeconomic impacts to coastal communities.

Climate Change—Climate change is widely acknowledged, yet there is considerable uncertainty about current and future consequences at local, ecosystem, and oceanic scales. Increased coordination and cooperation among resource management agencies is required to improve planning, monitoring, and adaptive management to address this phenomenon.

Ocean Literacy—Enhancing the public's awareness and appreciation of marine, socio-economic, and cultural resources is a cornerstone of the Sanctuary's mission. Management Plan Review could offer opportunities for the Sanctuary, in conjunction with the American Samoa Community College and other entities, to expand educational contributions and reach a larger audience.

Marine Debris—Coastal marine debris is a persistent and poorly diagnosed problem within the sanctuary that negatively impacts natural and socioeconomic resources and qualities.

Site Expansion—The Office of National Marine Sanctuaries (ONMS), under the authority of the National Marine Sanctuaries Act, has the ability to develop protections for special areas of the marine environment, including those found in federal waters. Any possible expansion of the ONMS activities, such as the expansion of the Sanctuary to include the newly designated Rose Atoll Marine National Monument, could supplement and compliment existing MPA initiatives in the Territory. Working cooperatively with partner agencies, will allow all parties to leverage resources and find the best solutions to protecting the marine resources of the Territory.

Condition Report

In preparation for management plan review, NOAA produced a Fagatele Bay National Marine Sanctuary Condition Report in 2007. The Condition Report provides a summary of resources in FBNMS, pressures on those resources, the current condition and trends, and management responses to the pressures that threaten the integrity of the marine environment. Specifically, the Condition Report includes information on the status and trends of water quality, habitat, living resources, and maritime archaeological resources and the human activities that affect them. The report serves as a supporting document for the Management Plan Review Process to inform constituents who desire to participate in that process.

In addition, a State of the Sanctuary Report was completed for 2002-2003. This report outlines major accomplishments and highlights specific management plan activities. An update covering accomplishments from 2003-2008 has also been created. The condition report, State of the Sanctuary Report and the 2003-2008 Update are available to the general public in advance of scoping meetings and on the internet at: http://fagatelebay.noaa.gov/html/management_plan.html.

Scoping Comments

Scoping meetings provide an opportunity to make direct comments to NOAA on the management of the sanctuary's natural and cultural resources, including administrative programs. We encourage the public to participate and welcome any comments related to the sanctuary. In particular, we are interested in hearing about the public's view on:

• The Sanctuary's potential management priorities for the next five to ten years;

• Effectiveness of the existing management plan in protecting sanctuary resources;

• Sanctuary programs, activities and needs, including but not limited to resource protection programs, research and monitoring programs, education, volunteer, and outreach programs;

• Implementation of regulations and permits;

• Adequacy of existing boundaries to protect sanctuary resources;

• Assessment of the existing operational and administrative framework (staffing, offices, vessels, etc.).

Authority: 16 U.S.C. Section 1431 et seq.

(Federal Domestic Assistance Catalog Number 11.429 Marine Sanctuary Program)

Dated: January 26, 2009.
Daniel J. Basta,
Director, Office of National Marine Sanctuaries.

[FR Doc. E9-2092 Filed 1-29-09; 8:45 am]

BILLING CODE 3510-NK-P